ENVIRONMENTAL PROTECTION AGENCY

[FRL-8789-5]

Delaware; Adequacy Status of the 2008 Reasonable Further Progress Plan for the Delaware Portion of the Philadelphia-Wilmington-Atlantic City 8-Hour Ozone Nonattainment Area Motor Vehicle Emission Budgets; Correction

AGENCY: Environmental Protection Agency (EPA).

ACTION: Notice of Adequacy; correcting amendment.

SUMMARY: This document corrects an error pertaining to EPA's informational notice announcing the Notice of Adequacy for the 2008 Reasonable Further Progress Plan for the Delaware Portion of the Philadelphia-Wilmington-Atlantic City 8-Hour Ozone Nonattainment Area Motor Vehicle Emission Budgets.

DATES: Effective Date: April 6, 2009.

FOR FURTHER INFORMATION CONTACT: Martin Kotsch, (215) 814-3335 or by e-mail at kotsch.martin@epa.gov.

SUPPLEMENTARY INFORMATION: Throughout this document wherever “we” or “our” are used, we mean EPA.

On December 19, 2008 (73 FR 77682), we published an information notice announcing the Notice of Adequacy for the 2008 Reasonable Further Progress Plan for the Delaware Portion of the Philadelphia-Wilmington-Atlantic City 8-Hour Ozone Nonattainment Area Motor Vehicle Emission Budgets (MVEBs). In this document, EPA inadvertently printed the incorrect categories of volatile organic compound (VOC) and nitrogen oxide (NOX) in a table entitled “Delaware Motor Vehicle Emissions Budgets.” This action corrects the tables in the informational notice, the categories of VOC and NOX for the MVEBs for the State of Delaware.

Correction

On page 77682, the table is corrected to read as follows:

Table 1—Delaware Motor Vehicle Emissions Budgets
Nonattainment area | 2008 Reasonable further progress: NOX (tpd) | 2008 Reasonable further progress: VOC (tpd)
New Castle County | 21.35 | 10.61
Kent County | 9.68 | 4.14
Sussex County | 12.86 | 7.09

Dated: March 16, 2009.
William T. Wisniewski,
Acting Regional Administrator, EPA Region III.

[FR Doc. E9-7681 Filed 4-3-09; 8:45 am]

BILLING CODE